NUCLEAR REGULATORY COMMISSION

[Docket Nos. 50-528, 50-529, AND 50-530]

Arizona Public Service Co.; Notice of Withdrawal of Application for Approval of Transfer of Facility Operating Licenses and Conforming Amendments

The U.S. Nuclear Regulatory Commission (the Commission) has permitted the withdrawal of the application dated April 15, 2002, as supplemented by letter dated July 11, 2002, filed by Arizona Public Service Company (APS) and Pinnacle West Energy Corporation (PWE), which had requested approval of the transfer of the Facility Operating License Nos. NPF-41, NPF-51, and NPF-74 for the Palo Verde Nuclear Generating Station (Palo Verde), Units 1, 2, and 3, to the extent held by APS, to PWE, in connection with a proposed restructuring of APS. The application also requested approval, pursuant to 10 CFR 50.90, of proposed conforming amendments. Palo Verde, Units 1, 2, and 3, are located in Maricopa County, Arizona.

The Commission had previously issued a Notice of Consideration of Approval of Transfer of Facility Operating Licenses and Conforming Amendments, and Opportunity for a Hearing, which was published in the Federal Register on July 29, 2002 (67 FR 49044). However, by letter dated December 23, 2002, APS and PWE withdrew the application.

For further details with respect to this action, see the application dated April 15, 2002, as supplemented by letter dated July 11, 2002, and the licensee's letter dated December 23, 2002, which withdrew the application. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or (301) 415-4737 or by email to pdr@nrc.gov.

Dated at Rockville, Maryland, this 4th day of February 2003.
For the Nuclear Regulatory Commission
Jack Donohew,
Senior Project Manager, Section 2, Project Directorate IV, Division of Licensing Project Management, Office of Nuclear Reactor Regulation.

[FR Doc. 03-3232 Filed 2-7-03; 8:45 am]

BILLING CODE 7590-01-P